DEPARTMENT OF COMMERCE

International Trade Administration

[A-552-801]

Certain Frozen Fish Fillets From the Socialist Republic of Vietnam: Corrected Notice of Court Decision Not in Harmony With Final Results of Administrative Review and Notice of Amended Final Results of Antidumping Duty Administrative Review

AGENCY: Enforcement and Compliance, International Trade Administration, Department of Commerce.

SUMMARY: On May 24, 2018, the United States Court of International Trade (CIT) issued a final judgment in Vinh Hoan Corporation et al. v. United States, Consol. Court No. 13-00156 (Vinh Hoan). On July 31, 2018, the Department of Commerce (Commerce) notified the public that the final judgment in that case is not in harmony with Commerce's final results of the underlying administrative review, and, as a result, it also amended the final results, involving the antidumping duty (AD) order on certain frozen fish fillets (fish fillets) from the Socialist Republic of Vietnam (Vietnam) covering the period of review (POR) August 1, 2010 through July 31, 2011. Commerce hereby amends the prior notice.

DATES: Applicable June 3, 2018.

FOR FURTHER INFORMATION CONTACT: Javier Barrientos, AD/CVD Operations Office V, Enforcement and Compliance, International Trade Administration, U.S. Department of Commerce, 1401 Constitution Avenue NW, Washington, DC 20230; telephone: (202) 482-2243.

SUPPLEMENTARY INFORMATION:

Background

On May 24, 2018, the CIT issued a final judgment in Vinh Hoan, sustaining Commerce's remand results for the eighth administrative review of the AD order on fish fillets from Vietnam covering the POR August 1, 2010 through July 31, 2011. On July 31, 2018, Commerce notified the public that the final judgment was not in harmony with the final results of that administrative review.¹ As a consequence, Commerce also amended the final results of the eighth administrative review. However, in the First Timken Notice, Commerce inadvertently published incorrect weighted-average dumping margins for all companies except Vinh Hoan Corporation.² As such, we have corrected these rates in the chart below.

¹ See Certain Frozen Fish Fillets From the Socialist Republic of Vietnam: Notice of Court Decisions Not in Harmony With Final Results of Administrative Review and Notice of Amended Final Results of Antidumping Duty Administrative Review, 83 FR 36876 (July 31, 2018) (First Timken Notice).

² Id., 83 FR at 36877-78.

Amended Final Results

Commerce is amending the First Timken Notice with respect to all companies in the review except Vinh Hoan Corporation. The revised weighted-average dumping margins for these exporters during the period August 1, 2010 through July 31, 2011 are as follows:

Exporter | Weighted- average dumping margin (dollars per kilogram)
Vinh Hoan Corporation ³ | 0.13
Anvifish Joint Stock Company ⁴ | 2.30
An Giang Agriculture and Food Import-Export Joint Stock Company | 1.26
Asia Commerce Fisheries Joint Stock Company | 1.26
Binh An Seafood Joint Stock Company | 1.26
Cadovimex II Seafood Import-Export and Processing Joint Stock Company | 1.26
Hiep Thanh Seafood Joint Stock Company | 1.26
Hung Vuong Corporation | 1.26
Nam Viet Corporation | 1.26
NTSF Seafoods Joint Stock Company | 1.26
QVD Food Company Ltd ⁵ | 1.26
Saigon Mekong Fishery Co., Ltd | 1.26
Southern Fisheries Industries Company Ltd | 1.26
Vinh Quang Fisheries Corporation | 1.26

Assessment Instructions

³ This rate is applicable to the Vinh Hoan Group which includes: Vinh Hoan Corporation and its affiliates Van Duc Food Export Joint Company and Van Duc Tien Giang. This rate did not change from the First Timken Notice.

⁴ This company includes the trade name Anvifish Co., Ltd.

⁵ This rate is also applicable to QVD Dong Thap Food Co., Ltd. (Dong Thap) and Thuan Hung Co., Ltd. (THUFICO). In the second review of this order, Commerce found QVD Food Company Ltd., Dong Thap and THUFICO to be a single entity, and, because there has been no evidence submitted on the record of this review that calls this determination into question, we continue to find these companies to be part of a single entity. Therefore, we assign this rate to the companies in the single entity. See Certain Frozen Fish Fillets from the Socialist Republic of Vietnam: Preliminary Results of Antidumping Duty Administrative Review, 71 FR 53387 (September 11, 2006).

Commerce will instruct U.S. Customs and Border Protection (CBP) to assess antidumping duties on unliquidated entries of subject merchandise exported by the companies mentioned above using the assessment rates listed above.

Cash Deposit Requirements

Unless the applicable cash deposit rates have been superseded by cash deposit rates calculated in an intervening administrative review of the AD order on fish fillets from Vietnam, Commerce will instruct CBP to require a cash deposit for estimated AD duties at the rate noted above for each specified exporter for entries of subject merchandise entered or withdrawn from warehouse for consumption on or after June 3, 2018.

Notification to Interested Parties

This notice is issued and published in accordance with sections 516A(e), 751(a)(1), and 777(i)(1) of the Tariff Act of 1930, as amended.

Dated: March 6, 2020.
Jeffrey I. Kessler,
Assistant Secretary for Enforcement and Compliance.

[FR Doc. 2020-05182 Filed 3-12-20; 8:45 am]

BILLING CODE 3510-DS-P